DEPARTMENT OF ENERGY

Federal Energy Regulatory Commission

[Docket No. AD05-13-000]

Joint Boards on Security Constrained Economic Dispatch; Second Notice on Initial Joint Board Meetings

October 21, 2005.

In accordance with the Commission's September 30, 2005 order,¹ and pursuant to section 223(b) ² and section 209(a) ³ of the Federal Power Act, take notice that the attachment lists the State representatives that have been appointed to the joint boards for the South, West, Northeast and PJM/MISO regions. Pursuant to FPA section 223(b), the Commission requested each State to nominate a representative to the appropriate joint board, and pursuant to FPA section 209(a), such persons have been appointed to the appropriate joint board. Also, FPA section 223(b) required the Commission to designate a member of the Commission to chair and participate as a member of each such board. Accordingly, the attached list identifies the member of the Commission that will chair each board as well as the State representatives that will act as the vice-chairs for each board.

¹ Joint Boards on Security Constrained Economic Dispatch, 112 FERC ¶ 61,353 at P 10-12 (2005).

² Section 223 was added to the Federal Power Act, 16 U.S.C. 824 et seq. (2000), by section 1298 of the Energy Policy Act of 2005, Pub. L. No. 109-58, § 1298, 119 Stat. 594, 986 (2005).

³ 16 U.S.C. 824h(a).

For more information about this notice, please contact Sarah McKinley at 202-502-8004 or sarah.mckinley@ferc.gov.

Magalie R. Salas,
Secretary.

Attachment: Members of Joint Boards

South Joint Board

Chair: Chairman Joseph T. Kelliher, Federal Energy Regulatory Commission.

Vice Chair: Commissioner Michael Callahan, Mississippi Public Service Commission.

Members:

President Jim Sullivan, Alabama Public Service Commission.

Chairman Sandra L. Hochstetter, Arkansas Public Service Commission.

Commissioner J. Terry Deason, Florida Public Service Commission.

Ms. Pandora Epps, Internal Consultant, Georgia Public Service Commission.

Chair Brian J. Moline, Kansas Corporation Commission.

Commissioner James M. Field, Louisiana Public Service Commission.

Commissioner Steve Gaw, Missouri Public Service Commission.

Commissioner E. Shirley Baca, New Mexico Public Regulation Commission.

Commissioner Sam J. Ervin, IV, North Carolina Utilities Commission.

Chairman Jeff Cloud, Oklahoma Corporation Commission.

Vice Chairman G. O'Neal Hamilton, South Carolina Public Service Commission.

Director Pat Miller, Tennessee Regulatory Authority.

Commissioner Julie Caruthers Parsley, Public Utility Commission of Texas.

West Joint Board

Chair: Commissioner Suedeen Kelly, Federal Energy Regulatory Commission.

Vice Chair: Commissioner Marsha H. Smith, Idaho Public Utilities Commission.

Members:

Commissioner Marc Spitzer, Arizona Corporation Commission.

Commissioner Dian M. Grueneich, California Public Utilities Commission.

Chairman Gregory Sopkin, Colorado Public Utilities Commission.

Commissioner Thomas J. Schneider, Montana Public Service Commission.

Mr. Richard L. Hinckley, Esq., General Counsel, Public Utilities Commission of Nevada.

Commissioner E. Shirley Baca, New Mexico Public Regulation Commission.

Chairman Lee Beyer, Oregon Public Utility Commission.

Ms. Rolayne Ailts Wiest, General Counsel, South Dakota Public Utilities Commission.

Chairman Paul Hudson, Public Utility Commission of Texas.

Chairman Ric Campbell, Utah Public Service Commission.

Chairman Mark Sidran, Washington Utilities and Transportation Commission.

Deputy Chair Kathleen A. “Cindy” Lewis, Wyoming Public Service Commission.

Northeast Joint Board

Chair: Commissioner Nora Mead Brownell, Federal Energy Regulatory Commission.

Vice Chair: Chairman Paul G. Afonso, Massachusetts Department of Telecommunications and Energy.

Vice Chair: Chairman William M. Flynn, New York State Public Service Commission.

Members:

Commissioner Jack R. Goldberg, Connecticut Department of Public Utility Control.

Chairman Kurt Adams, Maine Public Utilities Commission.

Chairman Thomas B. Getz, New Hampshire Public Utilities Commission.

Chairman Elia Germani, Rhode Island Public Utilities Commission.

Chairman James Volz, Vermont Public Service Board.

PJM/MISO Joint Board

Chair: Commissioner Nora Mead Brownell, Federal Energy Regulatory Commission.

Vice Chair: Commissioner Kevin K. Wright, Illinois Commerce Commission.

Vice Chair: Chairman Kenneth D. Schisler, Maryland Public Service Commission.

Members:

Commissioner Dallas Winslow, Delaware Public Service Commission.

Chair Agnes A. Yates, District of Columbia Public Service Commission.

Chairman David Lott Hardy, Indiana Utility Regulatory Commission.

Chairman John Norris, Iowa Utilities Board.

Chairman Mark David Goss, Kentucky Public Service Commission.

Commissioner Laura Chappelle, Michigan Public Service Commission.

Commissioner Kenneth Nickolai, Minnesota Public Utilities Commission.

Chairman Jeff Davis, Missouri Public Service Commission.

Chairman Greg Jergeson, Montana Public Service Commission.

Mr. Paul Malone, Regulatory, Planning & Contracts Manager, Nebraska Public Power District.

Commissioner Frederick F. Butler, New Jersey Board of Public Utilities.

Commissioner Sam J. Ervin IV, North Carolina Utilities Commission.

Commissioner Susan E. Wefald, North Dakota Public Service Commission.

Chairman Alan R. Schriber, Public Utilities Commission of Ohio.

Chairman Wendell F. Holland, Pennsylvania Public Utility Commission.

Chairman Gary W. Hanson, South Dakota Public Utilities Commission.

Director Pat Miller, Tennessee Regulatory Authority.

Mr. Howard Spinner, Director, Division of Economics and Finance, Virginia State Corporation Commission.

Mr. Earl Melton, Director, Engineering Division, Public Service Commission of West Virginia.

Chairperson Daniel R. Ebert, Public Service Commission of Wisconsin.

[FR Doc. E5-6041 Filed 11-1-05; 8:45 am]

BILLING CODE 6717-01-P